DEPARTMENT OF THE INTERIOR

Bureau of Land Management

[ID-957-1430-BJ]

Idaho: Filing of Plats of Survey

AGENCY: Bureau of Land Management, Interior.

ACTION: Notice.

SUMMARY: The plats of the following described lands were officially filed in the Idaho State Office, Bureau of Land Management, Boise, Idaho, effective 9 a.m., on the dates specified:

The plat representing the dependent resurvey of a portion of the subdivisional lines, and the subdivision of sections 16 and 17, T. 5 S., R. 36 E., Boise Meridian, Idaho, Group Number 945 (Part 1 of 2), was accepted April 12, 2000. The plat was prepared to meet certain administrative needs of the Bureau of Indian Affairs, Fort Hall Agency.

The plat representing the corrective dependent resurvey of portions of the west and north boundaries, and the dependent resurvey of portions of the north boundary, subdivisional lines, and the subdivision of sections 4, 5, 6, 7, and 9, T. 5 S., R. 36 E., Boise Meridian, Idaho, Group Number 945 (Part 2 of 2), was accepted April 12, 2000. The plat was prepared to meet certain administrative needs of the Bureau of Indian Affairs, Fort Hall Agency.

The plat representing the dependent resurvey of portions of the subdivisional lines and of the subdivision of sections 21 and 22, and the further subdivision of section 21, and the subdivision of section 27, T. 2 N., R. 5 W., Boise Meridian, Idaho, Group Number 1049, was accepted April 17, 2000. The plat was prepared to meet certain administrative needs of the Bureau of Land Management.

The plat representing the dependent resurvey of portions of the south boundary, subdivisional lines, and adjusted 1892 meanders of the left bank of the Clearwater River, and the subdivision of section 33, the survey of 1997 meanders of the left bank of the Clearwater River, and the metes-and-bounds survey of certain partition lines in section 33, T. 37 N., R. 2 W., Boise Meridian, Idaho, Group Number 1006, was accepted April 20, 2000. The plat was prepared to meet certain administrative needs of the Bureau of Indian Affairs, Northern Idaho Agency.

The plat representing the dependent resurvey of portions of the south boundary, the east boundary, the subdivisional lines, and of the subdivision of sections 23, 25, 26, 27, 34, 35, and 36, and the additional subdivision of sections 23, 25, 26, 27, 34, 35, and 36, and the metes-and-bounds survey of a portion of the centerline of Webb Road in section 23, T. 35 N., R. 4 W., Boise Meridian, Idaho, Group Number 1018, was accepted April 20, 2000. The plat was prepared to meet certain administrative needs of the Bureau of Indian Affairs, Northern Idaho Agency.

A supplemental plat was prepared to correct certain erroneously depicted distances and lines in sections 6, 7, and 8, T. 47 N., R. 5 E., and to correct a portion of the plat accepted July 1, 1997, and was accepted May 8, 2000. The plat was prepared to meet certain administrative needs of the Bureau of Land Management, Idaho.

The plat representing the dependent resurvey of a portion of the north boundary, and a portion of the subdivisional lines, and the subdivision of section 2, and a metes-and-bounds survey in section 2, T. 5 S., R. 3 E., Boise Meridian, Idaho, Group Number 1063, was accepted May 8, 2000. The plat was prepared to meet certain administrative needs of the Bureau of Land Management.

The plat constituting the entire survey record of the dependent resurvey of a portion of the subdivisional lines, and a metes-and-bounds survey in former lot 18 in section 7, T. 5 S., R. 36 E., Boise Meridian, Idaho, Group Number 1069, was accepted May 12, 2000. The plat was prepared to meet certain administrative needs of the Bureau of Indian Affairs, Fort Hall Agency.

The plat representing the dependent resurvey of a portion of the subdivisional lines, and the subdivision of section 14, T. 10 N., R. 4 E., Boise Meridian, Idaho, Group Number 990, was accepted May 26, 2000.

The plat was prepared to meet certain administrative needs of the USDA, Forest Service, Boise National Forest.

The plat representing the dependent resurvey of portions of the east boundary, the subdivisional lines, and the subdivision of sections 1 and 11, and the subdivision of section 12, T. 8 S., R. 12 E., Boise Meridian, Idaho, Group Number 1024, was accepted June 1, 2000. The plat was prepared to meet certain administrative needs of the Bureau of Land Management.

The plat representing the dependent resurvey of portions of the south boundary and subdivisional lines, and the subdivision of sections 27, 28, 29, 32, and 34, T. 9 S., R. 12 E., Boise Meridian, Idaho, Group Number 1057, was accepted June 15, 2000. The plat was prepared to meet certain administrative needs of the Bureau of Land Management.

The plat representing the dependent resurvey of a portion of the subdivisional lines, and the subdivision of section 3, T. 10 S., R. 12 E., Boise Meridian, Idaho, Group Number 1058, was accepted June 16, 2000.

The plat was prepared to meet certain administrative needs of the Bureau of Land Management.

The plat representing the dependent resurvey of a portion of the subdivisional lines, T. 2 S., R. 9 E., Boise Meridian, Idaho, Group Number 1051, was accepted June 21, 2000. The plat was prepared to meet certain administrative needs of the Bureau of Land Management.

The plat constituting the entire survey record of the dependent resurvey of a portion of the subdivisional lines, and the subdivision of section 14, and the execution of a metes-and-bounds survey of the centerline of an existing road in section 14, T. 13 S., R. 4 E., Boise Meridian, Idaho, Group Number 1073, was accepted June 21, 2000. The plat was prepared to meet certain administrative needs of the U.S.A.F., Mountain Home Air Force Base.

The plat representing the dependent resurvey of portions of the west boundary and of the subdivisional lines, and the subdivision of section 30, T. 1 N., R. 4 W., Boise Meridian, Idaho, Group Number 1047, was accepted June 22, 2000. The plat was prepared to meet certain administrative needs of the Bureau of Land Management.

The plat representing the dependent resurvey of a portion of the subdivisional lines, the corrective dependent resurvey of a portion of the subdivisional lines, and the corrective resurvey of the subdivision of sections 14 and 15, and the further subdivision of section 14, T. 12 S., R. 20 E., Boise Meridian, Idaho, Group Number 1053, was accepted June 30, 2000. The plat was prepared to meet certain administrative needs of the Bureau of Land Management.

FOR FURTHER INFORMATION CONTACT: Duane Olsen, Chief, Cadastral Survey, Idaho State Office, Bureau of Land Management, 1387 South Vinnell Way, Boise, Idaho, 83709-1657, 208-373-3980.

Dated: July 6, 2000.
Duane E. Olsen,
Chief, Cadastral Surveyor for Idaho.

[FR Doc. 00-17949 Filed 7-14-00; 8:45 am]

BILLING CODE 4310-GG-P